DEPARTMENT OF TRANSPORTATION

Federal Aviation Administration

Notice of Intent of Waiver With Respect to Land; Indianapolis Metropolitan Airport, Indianapolis, Indiana

AGENCY: Federal Aviation Administration (FAA), DOT.

ACTION: Notice.

SUMMARY: The FAA is considering a proposal to change 210.253 acres of airport land from aeronautical use to non-aeronautical use of airport property located at Indianapolis Metropolitan Airport, Indianapolis, Indiana. The aforementioned land is not needed for aeronautical use. The land is made up of four parcels. South Parcel—East, 38.606 acres, and South Parcel—West, 25.126 acres, are located south of the airport along 96th Street. Center Parcel, 99.096 acres, is located east of the airport along Hague Road and North Parcel, 47.425 acres, is located north of the airport along 106th Street. This is all vacant land with no aeronautical use. The Sponsor is proposing the land be made available for future commercial non-aeronautical use.

DATES: Comments must be received on or before April 6, 2020.

ADDRESSES: Documents are available for review by appointment at the FAA Chicago Airports District Office, Melanie Myers, Program Manager, 2300 East Devon Avenue, Des Plaines, Illinois 60018. Telephone: (847) 294-7525/Fax: (847) 294-7046 and Eric Anderson, Director of Properties, Indianapolis Airport Authority, 7800 Col. H. Weir Cook Memorial Drive, Indianapolis, IN 46241 Telephone: 317-487-5135.

Written comments on the Sponsor's request must be delivered or mailed to: Melanie Myers, Program Manager, Federal Aviation Administration, Chicago Airports District Office, 2300 East Devon Avenue, Des Plaines, Illinois 60018. Telephone: (847) 294-7525/Fax: (847) 294-7046.

FOR FURTHER INFORMATION CONTACT: Melanie Myers, Program Manager, Federal Aviation Administration, Chicago Airports District Office, 2300 East Devon Avenue, Des Plaines, Illinois 60018. Telephone: (847) 294-7525/Fax: (847) 294-7046.

SUPPLEMENTARY INFORMATION: In accordance with section 47107(h) of Title 49, United States Code, this notice is required to be published in the Federal Register 30 days before modifying the land-use assurance that requires the property to be used for an aeronautical purpose.

The land consists of 21 original airport acquired parcels. The parcels were acquired under Airport Improvement Program grants 3-18-0040-02, 3-18-0040-03, 3-18-0040-05, 3-18-0040-07, 3-18-0040-09, 3-18-0040-10, 3-18-0040-11, 3-18-0040-12 and local funding. The Sponsor is seeking FAA approval to release the land from aeronautical to non-aeronautical use and make the land available for non-aeronautical commercial use. The land is vacant and is not needed for aeronautical purposes. The Sponsor will receive fair market value for any non-aeronautical use of the property.

The disposition of proceeds from any future use of the airport property will be in accordance with FAA's Policy and Procedures Concerning the Use of Airport Revenue, published in the Federal Register on February 16, 1999 (64 FR 7696).

This notice announces that the FAA is considering the release of the subject airport property at the Indianapolis Metropolitan Airport, Indianapolis, Indiana from its obligations to be maintained for aeronautical purposes. Approval does not constitute a commitment by the FAA to financially assist in the disposal of the subject airport property nor a determination of eligibility for grant-in-aid funding from the FAA.

Land Description

South Parcel—East

Part of the Southwest Quarter and the Southeast Quarter of Section 11, Township 17 North, Range 4 East, Hamilton County, Indiana, being more particularly described as follows:

Commencing at a Harrison marker at the southwest corner of the Southwest Quarter of Section 11, Township 17 North, Range 4 East; thence South 89 degrees 52 minutes 56 seconds East along the south line of said Southwest Quarter a distance of 1234.22 feet to the southeast corner of the Southwest Quarter of said Southwest Quarter, being marked by a Harrison marker; thence North 00 degrees 19 minutes 29 seconds East along the East line of said Southwest Quarter-Quarter a distance of 65.00 feet to the North right of way line of 96th Street per Instrument number 9609622732; thence South 89 degrees 52 minutes 56 seconds East along said North right of way line 25.00 feet to the Point of Beginning; thence North 00 degrees 19 minutes 29 seconds East 49.94 feet to the beginning of a curve to the left having a radius of 425.00 feet; thence Northerly along said curve to the left an arc distance of 302.05 feet, said curve being subtended by a chord North 20 degrees 02 minutes 08 seconds West 295.73 feet; thence North 40 degrees 23 minutes 45 seconds West 716.33 feet; thence North 55 degrees 12 minutes 14 seconds East 193.02 feet; thence North 37 degrees 53 minutes 40 seconds East 87.51 feet; thence South 89 degrees 50 minutes 55 seconds East 1300.16 feet; thence South 37 degrees 01 minutes 12 seconds East 1324.29 feet to the North right of way of 96th Street (the remaining nine calls being along said North right of way); (1) thence North 89 degrees 55 minutes 05 seconds West 304.46 feet; (2) thence North 83 degrees 34 minutes 40 seconds West 90.55 feet; (3) thence North 89 degrees 55 minutes 05 seconds West 20.00 feet; (4) thence South 83 degrees 44 minutes 30 seconds West 90.55 feet; (5) thence North 89 degrees 55 minutes 05 seconds West 23.56 feet; (6) thence North 89 degrees 52 minutes 56 seconds West 226.46 feet; (7) thence North 85 degrees 18 minutes 30 seconds West 250.80 feet; (8) thence South 87 degrees 39 minutes 49 seconds West 350.32 feet; (9) thence North 89 degrees 52 minutes 56 seconds West 390.04 feet to the Point of Beginning.

Containing 38.606 acres, more or less.

South Parcel—West

Part of the Southwest Quarter of Section 11, Township 17 North, Range 4 East, Hamilton County, Indiana, being more particularly described as follows:

Commencing at a Harrison marker at the southwest corner of the Southwest Quarter of Section 11, Township 17 North, Range 4 East; thence South 89 degrees 52 minutes 56 seconds East along the south line of said Southwest Quarter a distance of 1234.22 feet to the southeast corner of the Southwest Quarter of said Southwest Quarter, being marked by a Harrison marker; thence North 00 degrees 19 minutes 29 seconds East along the East line of said Southwest Quarter-Quarter a distance of 65.00 feet to the North right of way line of 96th Street per Instrument number 9609622732 (the following six calls being along the north lines of said right of way); (1) thence North 89 degrees 52 minutes 56 seconds West 25.00 feet to the Point of Beginning; (2) thence North 89 degrees 52 minutes 56 seconds West 259.96 feet; (3) thence North 00 degrees 07 minutes 03 seconds East 15.00 feet; (4) thence North 89 degrees 52 minutes 56 seconds West 200.00 feet; (5) thence South 84 degrees 24 minutes 26 seconds West 150.75 feet; (6) thence North 89 degrees 52 minutes 56 seconds West 599.45 feet to the West line of said Southwest Quarter; thence North 00 degrees 09 minutes 27 seconds East along said West line a distance of 1576.00 feet; thence South 89 degrees 50 minutes 33 seconds East 7.77 feet to the beginning of a curve to the right having a radius of 175.00 feet; thence Southeasterly along said curve to the right an arc distance of 169.26 feet, said curve being subtended by a chord South 62 degrees 08 minutes 06 seconds East 162.74 feet; thence South 34 degrees 25 minutes 39 seconds East 328.86 feet to the beginning of a curve to the left having a radius of 2,525.00 feet; thence Southeasterly along said curve to the left an arc distance of 263.02 feet, said curve being subtended by a chord South 37 degrees 24 minutes 42 seconds East 262.90 feet; thence South 40 degrees 23 minutes 45 seconds East 954.64 feet to the beginning of a curve to the right having a radius of 375.00 feet; thence Southerly along said curve to the right an arc distance of 266.52 feet, said curve being subtended by a chord bearing South 20 degrees 02 minutes 08 seconds East 260.94 feet; thence South 00 degrees 19 minutes 29 seconds West 50.12 feet to the Point of Beginning.

Containing 25.126 acres, more or less.

North Parcel

Part of the Northwest Quarter and the Southwest Quarter of Section 11, Township 17 North, Range 4 East, Hamilton County, Indiana, being more particularly described as follows:

Beginning at a Harrison marker at the northeast corner of the Northwest Quarter of Section 11, Township 17 North, Range 4 East; thence South 00 degrees 10 minutes 10 seconds West along the east line of said Northwest Quarter 2657.16 feet to the southeast corner of said Northwest Quarter; thence South 00 degrees 10 minutes 10 seconds West along the east line of the Southwest Quarter 94.68 feet; thence North 34 degrees 08 minutes 14 seconds West 2400.35 feet to the south line of the land tract conveyed to Whirlwind Enterprises, L.L.C. recorded as Instrument number 9909912887 in the Office of the Recorder of Hamilton County, Indiana; thence South 86 degrees 39 minutes 41 seconds East along the south line of said Land tract 236.19 feet; thence North 00 degrees 10 minutes 10 seconds East along the east line of said land tract 778.04 feet to the North line of said Northwest Quarter; thence North 89 degrees 57 minutes 36 seconds East along the North line of said Northwest Quarter 679.30 feet to the northwest corner of a land tract conveyed to Cheeney Creek Real Estate Group recorded as Instrument number 2007016058; thence South 00 degrees 10 minutes 10 seconds West along the west line of said land tract 337.00 feet; thence North 89 degrees 57 minutes 36 seconds East along the south line of said land tract 387.77 feet; thence North 00 degrees 10 minutes 10 seconds East along the east line of said land tract 337.00 feet to the North line of said Northwest Quarter; thence North 89 degrees 57 minutes 36 seconds East along the North line of said Northwest Quarter 50.00 feet to the Point of Beginning. Containing 47.425 acres, more or less.

Center Parcel

Part of the Northeast Quarter and the Southeast Quarter of Section 11, Township 17 North, Range 4 East, Hamilton County, Indiana, being more particularly described as follows:

Beginning at a Harrison marker at the northeast corner of the Southeast Quarter of Section 11, Township 17 North, Range 4 East; thence South 00 degrees 11 minutes 46 seconds West along the East line of said Southeast Quarter 676.13 feet to the Northwest right of way of the Indiana Hoosier Port Authority Railroad, located 20 feet offset of the centerline of the rails; thence South 27 degrees 45 minutes 03 seconds West along said Northwest right of way 1950.95 feet; thence North 34 degrees 08 minutes 14 seconds West 2793.29 feet to the West line of the said Southeast Quarter; thence North 00 degrees 10 minutes 10 seconds East along the West line of said Southeast Quarter 94.68 feet to the northwest corner of said Southeast Quarter; thence North 00 degrees 10 minutes 10 seconds East along the West line of said Northeast Quarter 386.70 feet; thence South 89 degrees 54 minutes 27 seconds East parallel with the South line of said Northeast Quarter 2478.19 feet to the East line of said Northeast Quarter; thence South 00 degrees 11 minutes 56 seconds West along the East line of said Northeast Quarter 386.70 feet to the Point of Beginning.

Containing 99.096 acres, more or less.

Issued in Des Plaines, Illinois on February 25, 2020.
Deb Bartell,
Manager, Chicago Airports District Office, FAA, Great Lakes Region.

[FR Doc. 2020-04653 Filed 3-5-20; 8:45 am]

BILLING CODE 4910-13-P